FEDERAL COMMUNICATIONS COMMISSION

47 CFR Part 20

[WT Docket No. 12-269 and GN Docket No. 12-268; Report No. 3009]

Petitions for Reconsideration of Action in Rulemaking Proceeding

AGENCY: Federal Communications Commission.

ACTION: Petition for reconsideration.

SUMMARY: In this document, Petitions for Reconsideration (Petitions) have been filed in the Commission's Rulemaking proceeding, by Charles W. Logan, Lawler, Metzger, Keeney & Logan, LLC, on behalf of Sprint Corporation, and by Trey Hanbury, Hogan Lovells US, LLP, on behalf of T-Mobile USA, Inc.

DATES: Oppositions to the Petitions must be filed on or before September 24, 2014. Replies to an opposition must be filed on or before October 6, 2014.

ADDRESSES: Federal Communications Commission, 445 12th Street SW., Washington, DC 20554.

FOR FURTHER INFORMATION CONTACT: Amy Brett, Wireless Telecommunications Bureau, (202) 418-2703, email: Amy.Brett@fcc.gov.

SUPPLEMENTARY INFORMATION: This is a summary of Commission's document, Report No. 3009, released August 21, 2014. The full text of Report No. 3009 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A) because this notice does not have an impact on any rules of particular applicability.

Subject: Policies Regarding Mobile Spectrum Holdings; Expanding the Economic and Innovation Opportunities of Spectrum Through Incentive Auctions, published at 79 FR 39977, July 11, 2014, in WT Docket No. 12-269 and GN Docket No. 12-268 and published pursuant to 47 CFR 1.429(e). See also § 1.4(b)(1) of the Commission's rules.

Number of Petitions Filed: 2.

Federal Communications Commission.
Marlene H. Dortch,
Secretary, Office of the Secretary, Office of the Managing Director.

[FR Doc. 2014-21372 Filed 9-8-14; 8:45 am]

BILLING CODE 6712-01-P